RAILROAD RETIREMENT BOARD

Sunshine Act Meeting

Notice is hereby given that the Railroad Retirement Board will hold a meeting on March 20, 2002, 10 a.m., at the Board's meeting room on the 8th floor of its headquarters building, 844 North Rush Street, Chicago, Illinois, 60611. The agenda for this meeting follows:

Portion Open to the Public

(1) Briefing from the Executive Committee on implementation of the Railroad Retirement and Survivors' Improvement Act of 2001

Portion Closed to the Public

(A) Board Members meet with the Executive Committee

The person to contact for more information is Beatrice Ezerski, Secretary to the Board, Phone No. 312-751-4920.

Dated: March 6, 2002.
Beatrice Ezerski,
Secretary to the Board.

[FR Doc. 02-5838 Filed 3-7-02; 10:02 am]

BILLING CODE 7905-01-M